DEPARTMENT OF LABOR

Employment and Training Administration

[TA-W-64,248]

Freudenberg Nonwovens Pellon Corporation Industrial and Interlining Division; Durham, NC; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on November 13, 2008, applicable to workers of Freudenberg Nonwovens, Industrial and Interlining Div., Durham, North Carolina. The notice was published in the Federal Register on December 1, 2008 (73 FR 72847).

At the request of the State agency, the Department reviewed the certification for workers of the subject firm. The workers are engaged in the production of interlining and industrial nonwoven products.

New information shows that Pellon Corporation is the parent firm of Freudenberg Nonwovens. Workers' wages at the subject firm are being reported under the Unemployment Insurance (UI) tax account for Pellon Corporation.

Accordingly, the Department is amending this certification to properly reflect this matter.

The intent of the Department's certification is to include all workers of Freudenberg Nonwovens, Pellon Corporation, Industrial and Interlining Division who were adversely affected by increased imports of interlining and industrial nonwoven products.

The amended notice applicable to TA-W-64,248 is hereby issued as follows:

All workers of Freudenberg Nonwovens, Pellon Corporation, Industrial and Interlining Division, Durham, North Carolina, who became totally or partially separated from employment on or after October 17, 2007 through November 13, 2010, are eligible to apply for adjustment assistance under Section 223 of the Trade Act of 1974, and are also eligible to apply for alternative trade adjustment assistance under Section 246 of the Trade Act of 1974.

Signed at Washington, DC, this 14th day of January 2009.
Elliott S. Kushner,
Certifying Officer, Division of Trade Adjustment Assistance.

[FR Doc. E9-2139 Filed 1-30-09; 8:45 am]

BILLING CODE 4510-FN-P